NUCLEAR REGULATORY COMMISSION

10 CFR Parts 170 and 171

[NRC-2017-0032; Docket No. PRM-170-7; NRC-2018-0172]

RIN 3150-AJ99

Revision of Fee Schedules; Fee Recovery for Fiscal Year 2019

Correction

In rule document 2019-10051, appearing on pages 22331 through 22362, in the issue of Friday, May 17, 2019 make the following correction:

On page 22332, spanning all three columns, in the middle of the page, the equation should read as follows:

[FR Doc. C1-2019-10051 Filed 6-3-19; 8:45 am]

BILLING CODE 1301-00-D